DEPARTMENT OF EDUCATION

Office of Elementary and Secondary Education; Overview Information; Early Reading First Program; Notice Inviting Applications for New Awards for Fiscal Year (FY) 2005

Catalog of Federal Domestic Assistance (CFDA) Number: 84.359A/B.

Dates: Applications Available: December 28, 2004 (pre- and full applications).

Deadline for Transmittal of Pre-Applications: February 7, 2005.

Deadline for Transmittal of Full Applications: May 2, 2005 (for applicants invited to submit full applications only).

Deadline for Intergovernmental Review: July 1, 2005.

Eligible Applicants: The term “eligible applicant” means the following: (a) One or more local educational agencies (LEAs) that are eligible to receive a subgrant under the Reading First program (title I, part B, subpart 1, Elementary and Secondary Education Act of 1965, as amended (ESEA)), (b) one or more public or private organizations or agencies (including faith-based organizations) located in a community served by an eligible LEA; or (c) one or more eligible LEAs, applying in collaboration with one or more eligible organizations or agencies. To qualify under paragraph (b) of this definition, the organization's or agency's application must be on behalf of one or more programs that serve preschool-age children (such as a Head Start program, a child care program, or a family literacy program such as Even Start, or a lab school at a university), unless the organization or agency itself operates a preschool program.

Estimated Available Funds: $104,160,000.

Estimated Range of Awards: $750,000-$4,500,000.

Estimated Average Size of Awards: $2,800,000.

Estimated Number of Awards: 23-139.

Note: The Department is not bound by any estimates in this notice.

Project Period: Up to 36 months.

Full Text of Announcement

I. Funding Opportunity Description

Purpose of Program: This program supports local efforts to enhance the oral language, cognitive, and early reading skills of preschool-age children especially those from low-income families, through strategies, materials, and professional development that are grounded in scientifically based reading research.

Priorities: Under this competition we are particularly interested in applications that address the following invitational and competitive priorities.

Invitational Priorities: For FY 2005 these priorities are invitational priorities. Under 34 CFR 75.105(c)(1) we do not give an application that meets these invitational priorities a competitive or absolute preference over other applications.

These priorities are:

Invitational Priority 1—Intensity

The Secretary is especially interested in preschool programs that operate full-time, full-year early childhood educational programs, at a minimum of 6.5 hours per day, 5 days per week, 46 weeks per year, and that serve children for the two consecutive years prior to their entry into kindergarten.

Scientifically based research on increasing the effectiveness of early childhood education programs serving children from low-income families tells us that children attending such programs that have a greater intensity of service make higher and more persistent gains in the language and cognitive domains than children who attend early childhood programs that have lesser intensity of service. In other words, children who spend more time in high-quality early childhood education programs learn more than children who spend less time in those programs. The purpose of Invitational Priority 1 is to encourage preschool programs supported with Early Reading First (ERF) funds to provide services that are of a sufficient duration and intensity to maximize language and early literacy gains for children enrolled in those programs.

Invitational Priority 2—Children From Low-Income Families

The Secretary is especially interested in projects in which, in all preschool centers supported by the Early Reading First funds, at least 75 percent of the children enrolled in the preschool qualify to receive free or reduced priced lunches; or at least 75 percent of the children enrolled in the elementary school in the school attendance area in which that center is located qualify to receive free or reduced priced lunches.

One of the statutory purposes of the Early Reading First program is to enhance the early language, literacy, and early reading development of preschool-age children, particularly those from low-income families. This invitational priority is intended to increase the likelihood that preschool programs supported with Early Reading First funds serve children primarily from low-income families.

Competitive Preference Priority: In accordance with 34 CFR 75.105(b)(2)(ii), this priority is from § 75.225 of the Education Department General Administrative Regulations (EDGAR), which apply to this program (34 CFR 75.225).

Competitive Preference Priority—Novice Applicant

For FY 2005 this priority is a competitive preference priority. Under 34 CFR 75.105(c)(2)(i) we award an additional five (5) points to a pre-application and an additional five (5) points to a full application meeting this competitive priority.

This priority is:

Novice Applicant

The applicant must be a “novice applicant” as defined in 34 CFR 75.225.

Program Authority: 20 U.S.C. 6371-6376.

Applicable Regulations: EDGAR in 34 CFR parts 74, 75, 77, 79, 80, 81, 82, 84, 85, 86, 97, 98, and 99 as applicable.

Note: The regulations in 34 CFR part 86 apply to institutions of higher education only.

II. Award Information

Type of Award: Discretionary grant.

Estimated Available Funds: $104,160,000.

Estimated Range of Awards: $750,000-$4,500,000.

Estimated Average Size of Awards: $2,800,000.

Estimated Number of Awards: 23-139.

Note: The Department is not bound by any estimates in this notice.

Project Period: Up to 36 months.

III. Eligibility Information

1. Eligible Applicants: The term “eligible applicant” means the following: (a) One or more LEAs that are eligible to receive a subgrant under the Reading First program (title I, part B, subpart 1, ESEA); (b) one or more public or private organizations or agencies (including faith-based organizations) located in a community served by an eligible LEA; or (c) one or more eligible LEAs, applying in collaboration with one or more eligible organizations or agencies. To qualify under paragraph (b) of this definition, the organization's or agency's application must be on behalf of one or more programs that serve preschool-age children (such as a Head Start program, a child care program, or a family literacy program such as Even Start, or a lab school at a university), unless the organization or agency itself operates a preschool program.

2. Cost Sharing or Matching: This program does not involve cost sharing or matching.

IV. Application and Submission Information

1. Address to Request Application Package: You may obtain an application package via the Internet or from the Education Publications Center (EDPubs). To obtain an application via the Internet, use the following web address: www.ed.gov/programs/earlyreading/applicant.html. To obtain a copy from ED Pubs, write or call the following Education Publications Center, P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application package from ED Pubs, be sure to identify this competition as follows: CFDA number 84.359A/B.

Individuals with disabilities may obtain a copy of the application package in an alternative format (e.g., Braille, large print, audiotape, or computer diskette) by contacting the program contact person listed in section VII of this notice.

2. Content and Form of Application Submission: Requirements concerning the content of the pre-application, and the full application, together with the forms you must submit, are in the application package for this program. All applicants may apply in the pre-application phase; applicants must be invited to submit a full application. Page Limits: The pre-application narrative and the full application narrative for this program (Part II of the pre- and full applications) are where you, the applicant, address the selection criteria that reviewers use to evaluate your pre- and full applications. You must limit Part II of the pre-application to the equivalent of no more than ten (10) pages and Part II of the full application to the equivalent of no more than thirty-five (35) pages. Part III of the full application is where you, the applicant, provide a budget narrative that reviewers use to evaluate your full application. You must limit the budget narrative in Part III of the full application to the equivalent of no more than five (5) pages. Part IV of the full application is where you, the applicant, provide the list and a brief description of the existing preschool programs that the proposed Early Reading First project would support, up to five (5) resumes (curriculum vita), and the demonstration of stakeholder support for the project reviewers will use to evaluate your full application. You must limit the list and the brief description of the existing preschool programs to the equivalent of no more than five (5) pages. You must limit each resume to the equivalent of no more than three (3) pages each and limit the demonstration of stakeholder support for the project to the equivalent of no more than five (5) pages. For all page limits, use the following standards:

• A “page” is 8.5″ × 11″ on one side only, with 1″ margins at the top, bottom, and both sides.

• Double space (no more than three lines per vertical inch) all text in the application narrative, including titles, headings, quotations, and references included in the body of the narrative.

• Text in endnotes, charts, tables, figures, and graphs may be single-spaced.

• Use a font that is either 12 point or larger or no smaller than 10 pitch (characters per inch), including text in endnotes, charts, tables, figures, and graphs.

The page limits do not apply to Part I, the cover sheet and the one (1) page abstract; or the following portions of the full application: Part III, the budget (ED Form 524); or Part IV, the assurances and certifications; and the endnotes.

Our reviewers will not read any pages of your pre-application or full application that—

• Exceed the page limit if you apply these standards; or

• Exceed the equivalent of the page limit if you apply other standards.

3. Submission Dates and Times:

Applications Available: December 28, 2004 (pre- and full applications).

Deadline for Transmittal of Pre-Applications: February 7, 2005.

Deadline for Transmittal of Full Applications: May 2, 2005 (for applicants invited to submit full applications only).

Deadline for Intergovernmental Review: July 1, 2005.

Pre- and full applications for grants under the Early Reading First program must be submitted electronically using the Electronic Grant Application System (e-Application) available through the Department's e-Grants system. For information (including dates and times) about how to submit your application electronically or to request a waiver of the electronic submission requirement, please refer to Section IV.6. Other Submission Requirements in this notice. We do not consider a pre-application or a full application that does not comply with the deadline requirements.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Pre- and full applications for grants under this program must be submitted electronically, unless you request a waiver of this requirement in accordance with the instructions in this section.

a. Electronic Submission of Applications.

Pre- and full applications for grants under the Early Reading First program, CFDA Number 84.359A/B, must be submitted electronically using e-Application available through the Department's e-Grants system, accessible through the e-Grants portal page at: http://e-grants.ed.gov.

If you are unable to submit a pre- or full application through the e-Grants system, you may submit a written request for a waiver of the electronic submission requirement. In your request, you should explain the reason or reasons that prevent you from using the Internet to submit your pre- or full application. Address your request to: Rebecca Haynes, room 3W234, Washington, DC 20202-6132, (202) 260-0968. Please submit your request no later than two weeks before the applicable application deadline date. Your paper pre- or full application must be submitted in accordance with the mail or hand delivery instructions described in this notice.

If, within two (2) weeks of the applicable application deadline date, including on the applicable application deadline date itself, you are unable to submit an application electronically, you must submit a paper pre- or full application in accordance with the mail or hand delivery instructions described in this notice. The paper pre- or full application must include a written request for a waiver documenting the reasons that prevented you from using the Internet to submit your pre- or full application electronically.

While completing your electronic pre- or full application, you will be entering data online that will be saved into a database. You may not e-mail an electronic copy of a pre- or full grant application to us.

Please note the following:

• You must complete the electronic submission of your pre- or full grant application by 4:30 p.m., Washington, DC time, on the applicable application deadline date. The e-Application system will not accept a pre- or full application for this program after 4:30 p.m., Washington, DC time, on the applicable application deadline date. Therefore, we strongly recommend that you do not wait until the applicable application deadline date to begin the pre- or full application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your pre- or full application in electronic format, nor will we penalize you if you request a waiver and submit your pre- or full application in paper format because you were prevented from submitting it electronically as required.

• You must submit all documents electronically, including the Application for Federal Education Assistance (ED 424), Budget Information—Non-Construction Programs (ED 524), and all necessary assurances and certifications.

• Your electronic pre- or full application must comply with any page limit requirements described in this notice.

• Prior to submitting your electronic pre- or full application, you may wish to print a copy of it for your records.

• After you electronically submit your pre- or full application, you will receive an automatic acknowledgement that will include a PR/Award number (an identifying number unique to your pre- or full application).

• Within three (3) working days after submitting your electronic application, fax a signed copy of the ED 424 to the Application Control Center after following these steps:

1. Print ED 424 from e-Application.

2. The applicant's Authorizing Representative must sign this form.

3. Place the PR/Award number in the upper right hand corner of the hard-copy signature page of the ED 424.

4. Fax the signed ED 424 to the Application Control Center at (202) 245-6272.

• We may request that you provide us original signatures on other forms at a later date.

Application Deadline Date Extension in Case of System Unavailability: If you are prevented from electronically submitting your pre- or full application on the applicable application deadline date because the e-Application system is unavailable, we will grant you an extension of one business day in order to transmit your pre- or full application electronically, by mail, or by hand delivery. We will grant this extension if—

1. You are a registered user of e-Application and you have initiated the applicable electronic application for this competition; and

2. (a) The e-Application system is unavailable for sixty minutes or more between the hours of 8:30 a.m. and 3:30 p.m., Washington, DC time, on the applicable application deadline date; or

(b) The e-Application system is unavailable for any period of time between 3:30 p.m. and 4:30 p.m., Washington, DC time, on the applicable application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the applicable application deadline is extended, an e-mail will be sent to all registered users who have initiated an e-Application.

Extensions referred to in this section apply only to the unavailability of the Department's e-Application system. If the e-Application system is available, and you are unable to submit your application electronically or you do not receive an automatic acknowledgement of your submission, you must submit your pre- or full application in paper format by mail or hand delivery in accordance with the instructions in this notice. Your paper pre- or full application must be accompanied by a written request for waiver of the electronic submission requirement documenting the reasons that prevented you from using the Internet to submit your pre- or full application electronically.

b. Submission of Paper Applications by Mail.

If you have requested a waiver of the electronic submission requirement, you may mail (through the U.S. Postal Service or a commercial carrier) your pre- or full application to the Department. You must send the original and two (2) copies of your pre- or full application, on or before the applicable application deadline date, to the Department at the applicable following address:

By mail through the U.S. Postal Service: U.S. Department of Education, Application Control Center, Attention: (CFDA Number 84.359A/B), 400 Maryland Avenue, SW., Washington, DC 20202-4260; or

By mail through a commercial carrier: U.S. Department of Education, Application Control Center—Stop 4260, Attention: (CFDA Number 84.359A/B), 7100 Old Landover Road, Landover, MD 20785-1506.

You must show proof of mailing consisting of one of the following:

1. A legibly dated U.S. Postal Service postmark;

2. A legible mail receipt with the date of mailing stamped by the U.S. Postal Service;

3. A dated shipping label, invoice, or receipt from a commercial carrier; or

4. Any other proof of mailing acceptable to the U.S. Secretary of Education.

If you mail your pre- or full application through the U.S. Postal Service, we do not accept either of the following as proof of mailing:

1. A private metered postmark, or

2. A mail receipt that is not dated by the U.S. Postal Service.

If your pre- or full application is postmarked after the applicable application deadline date, we will not consider your application.

Note: Applicants should note that the U.S. Postal Service does not uniformly provide a dated postmark. Before relying on this method, you should check with your local post office.

c. Submission of Paper Applications by Hand Delivery.

If you have requested a waiver of the electronic submission requirement, you (or a courier service) may deliver your paper pre- or full application to the Department by hand. You must deliver the original and two (2) copies of your pre- or full application by hand, on or before the applicable application deadline date, to the Department at the following address: U.S. Department of Education, Application Control Center, Attention: 84.359A/B, 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your pre-or full application to the Department:

1. You must indicate on the envelope and—if not provided by the Department—in Item 4 of the ED 424 the CFDA number—and suffix letter, if any—of the competition under which you are submitting your pre- or full application.

2. The Application Control Center will mail a Grant Application Receipt Acknowledgment to you. If you do not receive the notification of application receipt within fifteen (15) business days of the applicable application deadline date, you should call the U.S. Department of Education Application Control Center at (202) 245-6288.

V. Application Review Information

1. Selection Criteria: This program has separate selection criteria for pre-applications and full applications.

A. Pre-applications: The following selection criterion for pre-applications is in 34 CFR 75.210 of EDGAR. Further information about this selection criterion is in the application package. The maximum score for the pre-application selection criterion is 100 points.

Quality of the project design (0-100 points). The Secretary considers the quality of the design of the proposed project. In determining the quality of the design of the proposed project, the Secretary considers the following factors:

(a) The extent to which the design of the proposed project reflects up-to-date knowledge from research and effective practice. (34 CFR 75.210(c)(2)(xiii))

(b) The extent to which the proposed project represents an exceptional approach for meeting statutory purposes and requirements. (34 CFR 75.210(c)(2)(xiv))

(c) The extent to which the proposed project will be coordinated with similar or related efforts, and with other appropriate community, State, and Federal resources. (34 CFR 75.210(c)(2)(xvi))

B. Full Application: The following selection criteria for those invited to submit full applications are in 34 CFR 75.210 of EDGAR. Further information about each of these selection criteria is in the application package. The maximum score for each criterion is indicated after the title of the criterion.

(i) Quality of the project design (0-60 points). The Secretary considers the quality of the design of the proposed project. In determining the quality of the design of the proposed project, the Secretary considers the following factors:

(a) The extent to which the design of the proposed project reflects up-to-date knowledge from research and effective practice. (34 CFR 75.210(c)(2)(xiii))

(b) The extent to which the proposed project represents an exceptional approach for meeting statutory purposes and requirements. (34 CFR 75.210(c)(2)(xiv))

(c) The extent to which the proposed project will be coordinated with similar or related efforts, and with other appropriate community, State, and Federal resources. (34 CFR 75.210(c)(2)(xvi))

(ii) Quality of project personnel (0-8 points). The Secretary considers the quality of the personnel who will carry out the proposed project. In determining the quality of project personnel, the Secretary considers the extent to which the applicant encourages applications for employment from persons who are members of groups that have traditionally been underrepresented based on race, color, national origin, gender, age, or disability. (34 CFR 75.210(e)(1),(2))

In addition, the Secretary considers the following factors:

(a) The qualifications, including relevant training and experience, of the project director or principal investigator. (34 CFR 75.210(e)(3)(i))

(b) The qualifications, including relevant training and experience, of key project personnel. (34 CFR 75.210(e)(3)(ii))

(c) The qualifications, including relevant training and experience, of project consultants or subcontractors. (34 CFR 75.210(e)(3)(iii))

(iii) Adequacy of resources (0-8 points). The Secretary considers the adequacy of resources for the proposed project. In determining the adequacy of resources for the proposed project, the Secretary considers the following factors:

(a) The relevance and demonstrated commitment of each partner in the proposed project to the implementation and success of the project. (34 CFR 75.210(f)(2)(ii))

(b) The extent to which the costs are reasonable in relation to the objectives, design, and potential significance of the proposed project. (34 CFR 75.210(f)(2)(iv))

(iv) Quality of the management plan (0-8 points). The Secretary considers the quality of the management plan for the proposed project. In determining the quality of the management plan for the proposed project, the Secretary considers the following factors:

(a) The adequacy of the management plan to achieve the objectives of the proposed project on time and within budget, including clearly defined responsibilities, timelines, and milestones for accomplishing project tasks. (34 CFR 75.210(g)(2)(i))

(b) The adequacy of procedures for ensuring feedback and continuous improvement in the operation of the proposed project. (34 CFR 75.210(g)(2)(ii))

(c) The extent to which the time commitments of the project director and principal investigator and other key project personnel are appropriate and adequate to meet the objectives of the proposed project. (34 CFR 75.210(g)(2)(iv))

(v) Quality of the project evaluation (0-8 points). The Secretary considers the quality of the evaluation to be conducted of the proposed project. In determining the quality of the evaluation, the Secretary considers the following factors:

(a) The extent to which the methods of evaluation are thorough, feasible, and appropriate to the goals, objectives, and outcomes of the proposed project. (34 CFR 75.210(h)(2)(i))

(b) The extent to which the methods of evaluation include the use of objective performance measures that are clearly related to the intended outcomes of the project and will produce quantitative and qualitative data to the extent possible. (34 CFR 75.210(h)(2)(iv))

(vi) Significance (0-8 points). The Secretary considers the significance of the proposed project. In determining the significance of the proposed project, the Secretary considers the potential contribution of the proposed project to the development and advancement of theory, knowledge, and practices in the field of study. (34 CFR 75.210(b)(2)(vi))

I. Award Administration Information

1. Award Notices: If your pre-application is successful, we notify you in writing and post the list of successful applicants on the Early Reading First Web site at www.ed.gov/programs/earlyreading/awards.html. If your full application is successful, we notify your U.S. Representative and U.S. Senators and send you a Grant Award Notification (GAN). We may also notify you informally.

If your pre-application is not evaluated, or following the submission of your pre-application you are not invited to submit a full application, we notify you. If your full application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. Early Reading First grantees also are required to meet the annual reporting requirements outlined in section 1225 of the ESEA.

4. Performance Measures: Under the Government Performance and Results Act (GPRA), the Secretary has established the following two measures for evaluating the overall effectiveness of the Early Reading First program:

(1) The percentage of preschool-age children who demonstrate age-appropriate oral language skills as measured by the Peabody Picture Vocabulary Test-III; and

(2) the average number of letters that preschool-age children are able to identify as measured by the Upper Case Alphabet Knowledge subtask on the PALS Pre-K assessment.

We will expect all grantees to document their success in addressing these performance measures in the annual performance report referred to in section VI.3. of this notice.

VII. Agency Contact

FOR FURTHER INFORMATION CONTACT: Rebecca Haynes, U.S. Department of Education, 400 Maryland Avenue, SW., room 3W234, Washington, DC 20202-6132. Telephone: (202) 260-0968 or by e-mail: Rebecca.Haynes@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: December 17, 2004.
Raymond Simon,
Assistant Secretary for Elementary and Secondary Education.

[FR Doc. E4-3780 Filed 12-22-04; 8:45 am]

BILLING CODE 4000-01-P